DEPARTMENT OF THE INTERIOR

National Park Service

National Register of Historic Places; Notification of Pending Nominations

Nominations for the following properties being considered for listing in the National Register were received by the National Park Service before October 27, 2001. Pursuant to section 60.13 of 36 CFR part 60 written comments concerning the significance of these properties under the National Register criteria for evaluation may be forwarded to the National Register, National Park Service, 1849 C St. NW., NC400, Washington, DC 20240. Written comments should be submitted by December 6, 2001.

Carol D. Shull,
Keeper of the National Register of Historic Places.

MARYLAND

Anne Arundel County

Epiphany Chapel and Church House, 1419 Odenton Rd., Odenton, 01001336

Montgomery County

Davis—Warner House, 8114 Carroll Ave., Takoma Park, 01001335

Wicomico County

Beaudley, 3955 Jesterville Rd., Tyaskin, 01001334

[FR Doc. 01-29091 Filed 11-20-01; 8:45 am]

BILLING CODE 4310-70-P